DEPARTMENT OF ENERGY

Federal Energy Regulatory Commission

[Project No. 13287-004-NY]

City of New York; Notice of Availability of Final Environmental Assessment

In accordance with the National Environmental Policy Act of 1969 and the Federal Energy Regulatory Commission's regulations, 18 CFR part 380 (Order No. 486, 52 FR 47897), the Office of Energy Projects has reviewed the application for an original license for the proposed 14.08-megawatt (MW) Cannonsville Hydroelectric Project, to be located on the City of New York's existing Cannonsville Dam, which impounds its Cannonsville Water Supply Reservoir. The dam and reservoir are located on the West Branch of the Delaware River, near the Township of Deposit, in Delaware County, New York. Commission staff prepared a final Environmental Assessment (final EA) which analyzes the potential environmental effects of construction and operation of the project and concludes that issuing a new license for the project, with appropriate environmental measures, would not constitute a major federal action significantly affecting the quality of the human environment.

A copy of the final EA is on file with the Commission and is available for public inspection. The final EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via email of new filings and issuances related to this or other pending projects. For assistance, contact FERC Online Support.

FOR FURTHER INFORMATION CONTACT: John Mudre at (202) 502-8902.

Dated: January 28, 2014.
Kimberly D. Bose,
Secretary.

[FR Doc. 2014-02377 Filed 2-4-14; 8:45 am]

BILLING CODE 6717-01-P